DEPARTMENT OF VETERANS AFFAIRS

Advisory Committee on Former Prisoners of War, Notice of Meeting

The Department of Veterans Affairs (VA) gives notice under the Federal Advisory Committee Act, 5 U.S.C. app. 2., that the Advisory Committee on Former Prisoners of War (ACFPOW) will conduct a hybrid meeting (in-person and virtual) on November 16, 2022-November 17, 2022 at the Michael E. DeBakey VA Medical Center, 2002 Holcombe Blvd., Houston, TX 77030.

The meeting will begin and end as follows, to include public participation:

Date | Time | Location | Open session
November 16, 2022 | 8:00 a.m.-2:00 p.m. CST | Michael E. DeBakey VA Medical Center Microsoft TEAMS Link and Call-in Information Below | Yes.
November 16, 2022 | 2:00 p.m.-4:00 p.m. CST | Michael E. DeBakey VA Medical Center | No.
November 17, 2022 | 9:00 a.m.-10:00 a.m. CST | Houston National Cemetery Microsoft TEAMS Link and Call-in Information Below | Yes.
November 17, 2022 | 10:00 a.m.-1:30 p.m. CST | Houston National Cemetery | No.
November 17, 2022 | 1:30 p.m.-2:00 p.m. CST | Michael E. DeBakey VA Medical Center Microsoft TEAMS Link and Call-in Information Below | Yes.

Sessions are open to the public, except when the Committee is conducting a tour of VA facilities. Tours of VA facilities are closed, to protect Veterans' privacy and personal information, by 5 U.S.C. 552b(c)(6).

The purpose of the Committee is to advise the Secretary of VA on the administration of benefits under Title 38 U.S.C., for Veterans who are Former Prisoners of War (FPOW), and to make recommendations on the needs of such Veterans for compensation, health care, rehabilitation, and memorial benefits.

On Wednesday, November 16th, the Committee will assemble in open session from 8:30 a.m. to 2:00 p.m. for discussion and briefings from Veterans Benefits Administration (VBA) and Veterans Health Administration (VHA) officials. The Committee will then convene a closed session from 2:00 p.m.-4:00 p.m. to tour the Michael E. DeBakey VA Medical Center. Sessions are open to the public, except when the Committee is conducting a tour of VA facilities. Tours of VA facilities are closed, to protect Veterans' privacy and personal information, by 5 U.S.C. 552b(c)(6).

On Thursday, November 17th, the Committee will assemble in open session from 9:00 a.m. to 10:00 a.m. for discussion and briefings from National Cemetery Administration (NCA) officials. The Committee will then convene a closed session from 10:00 a.m.-1:30 p.m. to tour the Houston National Cemetery. This portion of the meeting is closed due to, 552b(c)(6), the disclosure of information of a personal nature where disclosure would constitute a clearly unwarranted invasion of personal privacy. The Committee will reconvene in open session from 1:30 p.m.-2:00 p.m. to receive a presentation on FPOW interments in the National Cemeteries.

FPOWs who wish to speak at the public forum are invited to submit a 1-2-page commentary for inclusion in official meeting records. Any member of the public may also submit a 1-2-page commentary for the Committee's review.

Any member of the public seeking additional information should contact, Designated Federal Officer, Department of VA, Advisory Committee on Former Prisoners of War at Julian.Wright2@va.gov no later than November 11, 2022.

Any member of the public who wishes to participate in the virtual meeting may use the following Microsoft TEAMS Meeting Link:

Join On Your Computer or Mobile App: https://teams.microsoft.com/l/meetup-join/19%3ameeting_Mjc2ODgxNmYtZDQ4My00OTQyLTgxOTktYjQyYzY2ZWQzMzZi%40thread.v2/0?context=%7b%22Tid%22%3a%22e95f1b23-abaf-45ee-821d-7ab251ab3bf%22%2c%22Oid%22%3a%22b857b6c6-44d8-46b4-8041-6e7d50b9890a%22%7d

Meeting ID: 247 442 861 485

Passcode: b8yL5x

Download Teams | Join on the web

Or call-in (audio only): 1 872-701-0185, Code:585680318#

Dated: November 2, 2022.
LaTonya L. Small,
Federal Advisory Committee Management Officer.

[FR Doc. 2022-24281 Filed 11-7-22; 8:45 am]

BILLING CODE P